NATIONAL CREDIT UNION ADMINISTRATION

Agency Information Collection Activities: Proposed Collection; Comment Request; Joint Standards for Assessing the Diversity Policies and Practices

AGENCY: National Credit Union Administration (NCUA).

ACTION: Notice and request for comment.

SUMMARY: The National Credit Union Administration (NCUA), as part of a continuing effort to reduce paperwork and respondent burden, invites the general public and other Federal agencies to comment on the revision of an existing collection, as required by the Paperwork Reduction Act of 1995.

DATES: Written comments should be received on or before May 22, 2018 to be assured consideration.

ADDRESSES: Interested persons are invited to submit written comments on the information collections to Dawn Wolfgang, National Credit Union Administration, 1775 Duke Street, Suite 5080, Alexandria, Virginia 22314; Fax No. 703-519-8579; or Email at PRAComments@NCUA.gov.

FOR FURTHER INFORMATION CONTACT: Requests for additional information should be directed to the address above or Dawn Wolfgang at 703-548-2279.

SUPPLEMENTARY INFORMATION:

OMB Number: 3133-0193.

Title: Joint Standards for Assessing the Diversity Policies and Practices.

Abstract: Section 342 of the Dodd-Frank Wall Street Reform and Consumer Protection Act of 2010 (Act) required the NCUA, the Office of the Comptroller of the Currency (OCC), Board of Governors of the Federal Reserve System (Board), Federal Deposit Insurance Corporation (FDIC), Bureau of Consumer Financial Protection (CFPB), and Securities and Exchange Commission (SEC) (Agencies) each to establish an Office of Minority and Women Inclusion (OMWI) to be responsible for all matters of the Agency relating to diversity in management, employment, and business activities. The Act also instructed each OMWI Director to develop standards for assessing the diversity policies and practices of entities regulated by the Agency. The Agencies worked together to develop joint standards and, on June 10, 2015, they jointly published in the Federal Register the “Final Interagency Policy Statement Establishing Joint Standards for Assessing the Diversity Policies and Practices of Entities Regulated by the Agencies.”

Type of Review: Revision of a currently approved collection.

Affected Public: Private Sector: Not-for-profit institutions.

Estimated No. of Respondents: 325.

Estimated Annual Frequency: 1.

Estimated Annual Number of Responses: 325.

Estimated Burden Hours per Response: 10.

Estimated Total Annual Burden Hours: 3,250.

Reason for Change: The NCUA had received OMB approval for the use of the “Voluntary Credit Union Self-Assessment Checklist” to provide a user-friendly tool to assess credit unions diversity policies and practices. The NCUA is revising this checklist at this time to:

1. Provide space for the user to identify the credit union's Diversity and Inclusion Officer and Supplier Diversity Officer or equivalents. This information will help gauge the formality of the credit union's diversity and inclusion program and provide direct contact information with individuals holding these positions.

2. Remove the option for a credit union to answer in the negative; only affirmative responses are requested and removing the requirement to provide a comment if the respondent answers a question in the affirmative.

3. Converts the Self-Assessment standards from a question format to a statement format.

4. Provides space for the user to document their definition of diversity if it is broader than just minorities and women as referenced in the joint standards. Collection of this information will allow the NCUA to better understand how credit unions are defining diversity.

5. Include a table to capture the workforce profile. The table provides space for users to provide a breakdown of their workforce by gender and minority status.

6. Include a table to capture total annual procurement spend with minority and women-owned businesses. This data will help us gauge the amount of spending credit unions are doing with minority- and women-owned businesses.

The NCUA estimates that the average response time per respondent is 10 hours. At the time of the approval of the original collection, the Agencies joint estimate of the time per response per respondent was 12 hours. NCUA has re-evaluated its estimates and has determined that the burden on the credit union will be reduced by the redesign of the form.

An adjustment in the number of respondents is being made to reflect reduction in the number of credit unions reporting.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on March 20, 2018.
Dated: March 20, 2018.
Dawn D. Wolfgang,
NCUA PRA Clearance Officer.

[FR Doc. 2018-05928 Filed 3-22-18; 8:45 am]

BILLING CODE 7535-01-P